DEPARTMENT OF COMMERCE

National Oceanic and Atmospheric Administration

[I.D. 102706C]

Marine Mammals; File No. 775-1600

AGENCY: National Marine Fisheries Service (NMFS), National Oceanic and Atmospheric Administration (NOAA), Commerce.

ACTION: Notice; receipt of application for amendment.

SUMMARY: Notice is hereby given that the Northeast Fisheries Science Center, NMFS,166 Water Street, Woods Hole, Massachusetts 02543-1026 [Principal Investigator (PI): Dr. Richard Merrick] has requested a major amendment to Permit No. 775-1600 to take northern right whales (Eubalaena glacialis) for purposes of scientific research.

ADDRESSES: The amendment request and related documents are available for review upon written request or by appointment in the following office(s):

Permits, Conservation and Education Division, Office of Protected Resources, NMFS, 1315 East-West Highway, Room 13705, Silver Spring, MD 20910; phone (301)713-2289; fax (301)713-0376;

Northeast Region, NMFS, One Blackburn Drive, Gloucester, MA 01930-2298; phone (978)281-9200; fax (978)281-9371;

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 775-1600.

FOR FURTHER INFORMATION CONTACT: Carrie Hubard or Amy Hapeman, (301)713-2289.

SUPPLEMENTARY INFORMATION: On October 27, 2000, notice was published in the Federal Register (65 FR 64432) that a request for a scientific research permit to take seven species of baleen whale, 21 species of odontocetes, and four species of pinnipeds had been submitted by the above-named organization. Permit No. 775-1600-00 was issued on March 6, 2001 (66 FR 14135) and subsequently amended ten times for various purposes. Amendment No. 7 of the permit, named Permit No. 775-1600-07 (69 FR 10680; March 8, 2004), and subsequent amendments allowed biopsy sampling of up to 15 right whale calves less than six months old per year. The Permit Holder has requested that the number of right whale calves less than six months old that may be biopsy sampled, including on the Southeastern US calving grounds, be increased to 30 per year to account for inter-annual variation in the number of calves born each year. The purpose of this amendment is consistent with the objectives in the original application related to genetically identifying (via biopsy sampling) northern right whales.

Concurrent with the publication of this notice in the Federal Register, NMFS is forwarding copies of this application to the Marine Mammal Commission and its Committee of Scientific Advisors.

Dated: October 27, 2006.
P. Michael Payne,
Chief, Permits, Conservation and Education Division, Office of Protected Resources, National Marine Fisheries Service.

[FR Doc. E6-18503 Filed 11-1-06; 8:45 am]

BILLING CODE 3510-22-S